ENVIRONMENTAL PROTECTION AGENCY

[FRL-7485-9]

Mobile Source Outreach Assistance Competition Fiscal Years 2003/2004: Solicitation Notice

AGENCY: Environmental Protection Agency (EPA).

ACTION: Notice.

SUMMARY: Today's notice announces the availability of funding and solicits proposals from State, local, and tribal air pollution control agencies for mobile source-related public education and outreach projects. The funding will be allocated by EPA's Office of Transportation and Air Quality (OTAQ) to the EPA regions for award through the competitive process described in this notice. In order for EPA to streamline its internal processing of selected proposals, this competition will select proposals for both Fiscal Year 2003 and Fiscal Year 2004.

DATES: The deadline for Final Proposals is Monday, July 7, 2003. To allow for efficient management of the competitive process, OTAQ is requesting agencies to submit an informal “Intent to Apply” by Monday, May 26, 2003. (Instructions for submitting final proposals and informal “Intents to Apply” are found in section X. below.)

ADDRESSES: Addresses for submitting final proposals can be found in section X. below.

FOR FURTHER INFORMATION CONTACT: Susan Bullard, Director of Outreach, USEPA Office of Transportation and Air Quality (OTAQ), 1200 Pennsylvania Avenue, NW., (mail code 6406J), Washington, DC, 20460. Telephone (202) 564-9856; Fax (202) 565-2085. Or e-mail bullard.susan@epa.gov.

SUPPLEMENTARY INFORMATION:

Contents by Section

I. Overview and Deadlines

II. Eligible Organizations

III. Funding Issues

IV. Program Emphasis

V. Selection Criteria

VI. Proposal Evaluation and Selection

VII. Proposals

VIII. OTAQ/Section 105 Funded Outreach Projects

IX. Other Items of Interest

X. How to Apply

XI. EPA Regional Section 105 Grant Coordinators

XII. OTAQ Program Contact

This solicitation can also be found on the following EPA Web pages: www.epa.gov/otaq/rfp or www.epa.gov/air/grants_funding.html.

Deadline for informal “Intent to Apply”—Monday, May 26, 2003.

Deadline for Receipt of Final Proposal—Monday, July 7, 2003.

Mobile Source Outreach Assistance: Competition 2003/2004: Request for Proposals

Section I. Overview and Deadlines

A. Overview: Over the past six years, EPA's Office of Transportation and Air Quality (OTAQ) and EPA's Regional offices have entered into agreements and established partnerships with a number of organizations to (1) provide national support for community-based mobile source public education efforts supporting implementation of the Clean Air Act and the Transportation Equity Act for the 21st Century, (2) encourage responsible choices for organizational and individual actions through public education. OTAQ/Section 105-Funded Outreach Projects are listed on the OTAQ Web site www.epa.gov/otaq/rfp.htm and emphasize transportation choices to reduce vehicle miles traveled; education of vehicle owners and drivers of the future; particulate matter related to mobile sources; alternative fuels; car care and the role of the automotive technician; outreach to ethnic populations; environmental justice; and, related projects such as ozone mapping and small engines. EPA's Office of Transportation and Air Quality receives set-aside funds from the State and Tribal Assistance Grants (STAG) account to provide support to community-based mobile source-related outreach projects. This notice solicits proposals for public education and outreach projects which directly support State, local and tribal air management organizations in their efforts to improve air quality from mobile sources. Proposals will be accepted from State, local, and tribal air management agencies which are identified as such under section 302(b) of the Clean Air Act. (See definition in section II below.) Interested persons can also obtain copies of this solicitation at no charge by accessing the OTAQ Web site at www.epa.gov/OTAQ/rfp.htm or www.epa.gov/air/grants_funding.html.

B. What are the deadlines for this competition? In order to efficiently manage the selection process, the Office of Transportation and Air Quality requests that an informal “Intent to Apply” be submitted by Monday, May 26, 2003. (Please provide project title or subject and e-mail address for project contact.) An “Intent to Apply” simply states in the form of e-mail, phone, or fax that your organization intends to submit a proposal to be received by the deadline. Submitting an “Intent to Apply” does not commit an organization to submit a final proposal. Those not submitting an “Intent to Apply” may still apply by the deadline. The deadline for final proposals (original and six copies) is midnight on Monday, July 7, 2003. The Office of Transportation and Air Quality intends to complete the Evaluation/Selection process in September 2003.

Section II. Eligible Organizations

Who is eligible to submit proposals? According to funding policies associated with the State and Tribal Assistance Grants regulations (STAG funds), proposals can be accepted only from air pollution control agencies as defined under section 302(b) of the Clean Air Act, (for projects to be undertaken which will have replicability to other communities nationally). OTAQ has no discretion over this requirement. Section 302(b) of the Clean Air Act defines “air pollution control agencies” as any of the following:

(1) A single State agency designated by the Governor of that State as the single air pollution control agency for purposes of the Act.

(2) An agency established by two or more States and having substantial powers or duties pertaining to the prevention and control of air pollution.

(3) A city, county, or other local government health authority, or, in the case of any city, county or other local government in which there is an agency other than the health authority charged with responsibility for enforcing ordinances or laws relating to the prevention and control of air pollution.

(4) An agency of two or more municipalities located in the same State or in different States and having substantial powers or duties pertaining to the prevention and control of air pollution.

(5) An agency of an Indian tribe.

As Project Managers for these cooperative agreements, EPA's Regional Offices are responsible for confirming that a submitting agency is eligible under the legal definition. Interested air management, non-governmental or related organizations which are not air pollution control agencies as defined under section 302(b) of the Clean Air Act are encouraged to create partnerships with eligible organizations. In that situation, the eligible organization would be required to submit the final proposal and serve as the funding recipient if selected.

Section III. Funding Issues

A. What is the amount of available funding? A minimum of $550K. Total funding available will reflect STAG set-aside funds for both FY03 ($550K) and FY 04 (amount to be determined prior to competition selection).

B. How will funds be allocated? The competition process will be managed by OTAQ and selected cooperative agreements will be awarded and managed by EPA's Regional offices and funded through section 105 authority (State and local air pollution control agencies). OTAQ has no discretion over this requirement.

C. Is there a maximum amount for award? Funding from this competition may not exceed $100,000 for the entire project period of the selected proposal. (This amount does not include any match which may be required or generated by the eligible organization.)

D. Are matching funds required? Possibly. The Clean Air Act's section 105 grant program contains a cost-sharing requirement for a minimum 40 percent match for the recipient's overall approved section 105 work program costs. If an applicant to this competition is selected to receive an outreach grant, the Federal funds to be awarded should be added to the Federal share of the applicant's existing section 105 grant. If addition of these funds increases the Federal percentage of the new overall section 105 grant amount to greater than 60 percent, then the applicant, in order to receive the outreach assistance, must increase its non-Federal contribution in order to restore the required 40 percent non-Federal minimum contribution. If addition of the outreach funds does not increase the Federal share above 60 percent, then an additional non-Federal match is not required. An air pollution control agency which submits a proposal must include a statement in their proposal indicating that the match could and would be met if their proposal is selected and such a match is required. Organizations unable to meet a required match must be considered ineligible. Organizations unclear as to their matching status are recommended to contact their EPA Regional Grant Coordinator (see section XII below).

E. Can funding be used to acquire services or fund partnerships? Yes—subgrants and other procurement services are allowed, provided the recipient follows applicable procurement and sub-grant procedures. Please note that EPA will not be a party to these transactions. Approval of a funding proposal does not relieve recipients of their obligations to compete service contracts, conduct cost and price analyses, and use subgrants only for financial assistance purposes in accordance with subpart B, section .210 of OMB Circular A-133. Please indicate any intent to enter into such agreements in the proposal.

Section IV. Program Emphasis

This program is designed to provide seed money to initiate new projects or advance existing projects that are new in some way (e.g. new audiences, new locations, new approaches) rather than grow ongoing projects.

Program Emphasis

—Voluntary measures.

—Particulate matter projects related to mobile sources.

—Commuter choice/best workplaces for commuters initiatives.

—Transportation choices.

—Environmental justice.

—Car care (testing, repair, maintenance).

—On Board Diagnostics (OBD).

—Alternative fuels.

—Involving youth in mobile source issues/environmental education.

—Other mobile source issues (including but not limited to: diesel, heavy duty engines; nonroad engines; air quality index).

Section V. Selection Criteria

A. Primary Project Criteria

—Clearly addresses environmental goals of improved air quality from mobile sources.

—Indicates some level of funding for replication and transfer to other communities.

—Links air quality, public health and calls to action.

—Demonstrates effectiveness of delivery mechanism to reach targeted audience.

—Exhibits clearly-stated and appropriate levels of funding.

—Highlights effectiveness of collaborative activities and partnerships with other stakeholders needed to effectively develop or implement the project.

—Demonstrates national or regional applicability/transferability.

—Indicates how success will be measured and benefits will be demonstrated.

—Reflects potential for sustainability.

B. Other Factors to be Considered

—Innovation.

—Integration with existing/ongoing programs.

—Willingness to coordinate with other OTAQ-funded outreach activities.

—Demonstrated capability of candidate organization to accomplish the goals presented.

C. Proposal Presentation Criteria

—Fully addresses each of the components outlined in section VII (A).

—Action-oriented.

—Clearly-states goals and objectives.

—Reflects reasonable time frames and budget.

Section VI. Proposal Evaluation and Selection

The Evaluation Team is chosen to represent a full range of mobile source and EPA program expertise. In addition, each EPA Regional office is given the opportunity to review those proposals generated by eligible organizations within that Region. The Evaluation Team will base its evaluation solely on the criteria referenced in this notice. Completed evaluations will be forwarded for further consideration to a Selection Committee representing OTAQ senior managers and Regional representatives who are responsible for final selection. To ensure equity and objectivity throughout the process, the OTAQ Program Contact (listed below) and staff who facilitate the process and participate in pre-application assistance, do not serve as members of either the Evaluation Team or the Selection Committee.

Section VII. Proposals

A. What must be included in the proposal? Proposals should be approximately 5-7 pages in length, not including the cover letter (please do not include binders or spiral binding) and must include the following. (It is recommended that the proposal conform to the outline below to ensure that all components are addressed.) A copy of the cover letter should be attached to each copy to be submitted.

(1) Project contact(s) (must provide name, organization, phone, fax, and e-mail) An e-mail address is essential in order to ensure OTAQ's ability to quickly reach all applicants with important and timely information.

(2) Clear and accurate statement of amount being requested. (No project will receive funding from this competition in an amount to exceed $100,000.)

(3) Brief statement that the candidate organization is defined as an air pollution control agency under section 302(b) of the Clean Air Act.

(4) Statement that any required match will be met.

(5) Statement of project background/objectives highlighting relationship to improving air quality from mobile sources.

(6) Detailed project summary—description of specific actions to be undertaken.

(7) Projected time frame for project from initiation through completion.

(8) Associated deliverables to be developed and funded through the agreement.

(9) Explanation of project benefits.

(10) Detailed explanation of how project outcomes will be designed and funded for replication in other communities.

(11) Description of collaborative activities and partnerships with other stakeholders.

(12) Description of measures of program/project success.

(13) Detailed budget estimate. (Clearly explain how funds will be used, including estimated cost for each primary task. It is helpful if the requested amount is presented in round numbers.) Budget estimates must reflect funding for participation in the annual Communities in Motion Workshop.

B. Will 2-year proposals be considered? Yes. If a proposal with a 2-year project period is submitted, OTAQ requires that the budget and cost estimate be designed to indicate what will be accomplished in each of the first and second years. The total for the funding from this competition is not to exceed a total of $100,000, even if the project will be undertaken over a 2-year period.

C. May an eligible organization submit more than one proposal? An organization may submit more than one proposal only if the proposals are for different projects.

D. May an eligible organization resubmit a proposal which was previously submitted to the Mobile Source Outreach Assistance Competition, but was not selected? Yes. The proposals received by OTAQ in previous competitions were generally of very high quality. Clearly, all proposals of merit could not be selected due to limited resources available.

E. May an eligible organization submit a proposal for this fiscal year, even if it were previously awarded funding under this program? Yes. Applicants awarded funding in previous competitions may submit new proposals to fund a different project. This program is intended to provide seed money to initiate new projects or advance existing projects that are new in some way (e.g., new audiences, new locations, new approaches).

F. Does this funding expire? No. State and Tribal Assistance Grants (STAG) for environmental programs remain available until expended (“no-year money”).

G. Ineligible proposals. Proposals will be determined to be ineligible if:

(1) The candidate organization is not currently defined as an air pollution control agency under section 302(b) of the Clean Air Act; (2) a required match could not be met; (3) the proposal is incomplete (proposals must address each and every component outlined in section VII (N); or (4) the proposal is received after the deadline.

Section VIII. OTAQ/Section 105 Funded Outreach Projects

Since this competition is designed to fund new projects (rather than duplicating or growing existing programs), potential candidate organizations are recommended to visit the OTAQ web site to identify representative projects already being funded. The item, entitled “OTAQ/Section 105 Funded Outreach Projects,” can be found at www.epa.gov/otaq/. Click on “Recent Additions” to find a brief sketch of representative projects funded to date through the Office of Transportation and Air Quality, either with section 105 funding (indicated by year of funding) or projects that are intended to be national in scope, supported by OTAQ program funding (indicated by an asterisk “*”).

Note: Some Web sites listed by funded organizations provide helpful information on a variety of air quality efforts being undertaken by the funded organization.

Section IX. Other Items of Interest

Is there other information I should have before applying? Yes.

—Submission of an Intent to Apply or a final proposal does not guarantee funding.

—Supplementary information, including letters of recommendation, will be retained in the files, but will not be reviewed by the evaluators.

—Only those organizations selected will be required to submit a complete “Application for Federal Assistance and Budget Information” (SF 424 and SF 424A) to the appropriate EPA Regional office.

Section X. How To Apply

How do I apply?

Informal “Intents to Apply” may take the form of e-mail, fax or phone call to the EPA Program Contact listed below. Include organization, contact, phone, e-mail and project title/subject (if known at time of Intent). Please submit informal “Intents To Apply” by Monday, May 26, 2003.

To be considered eligible, completed original proposals must be date-stamped (postmarked or dated by overnight express) on or before midnight, Monday, July 7, 2003. (Original + 6, including cover letters on copies—no binders, spiral binding or supplemental materials please!)

Please pay special attention to the distinction in addresses for regular mail and overnight or in-person delivery.

Via regular mail to: Susan Bullard, Director of Outreach, U.S. EPA Office of Transportation and Air Quality, 1200 Pennsylvania Avenue, NW., Mail Code 6406J, Washington, DC 20460.

(Please note that, in the face of circumstances beyond the agency's control in Washington, DC, it may take significantly longer than expected for regular mail to reach the Office of Transportation and Air Quality.)

Express mail which is to be delivered in-person (FedEx, UPS, Airborne, etc.) must leave the sender and be dated by no later than midnight on Monday, July 7, 2003, and should be delivered to the following address: Susan Bullard, Director of Outreach, U.S. EPA Office of Transportation and Air Quality, 501 Third Street, NW., Room 5304D, Washington, DC 20001, (202) 564-9856, (202) 564-8991 (backup number for expressed proposals only).

Note: Proposals e-mailed or faxed will serve only as a placeholder, and must be followed by a hard copy original and 6 copies postmarked/date stamped no later than the deadline. If no original is received which meets the deadline, the proposal will not be considered.

Deadline for Completed Final Proposals

Date stamped (postmarked or express mail dated) no later than midnight on Monday, July 7, 2003.

Section XI. EPA Regional Section 105 Grant Coordinators
Region 1 (Boston) | Paul Bryan | 617-918-1673
Region 2 (New York) | Marlon Gonzales | 212-637-3769
Region 3 (Philadelphia) | Russ Bowen | 215-814-2057
Region 4 (Atlanta) | Todd Rinck | 404-562-9062
Region 5 (Chicago) | Robert Miller | 312-353-0396
| Diane Nelson | 312-886-2929
Region 6 (Dallas) | Rexene Hanes | 214-665-2726
Region 7 (Kansas City) | Mark Smith | 913-551-7876
Region 8 (Denver) | Marisa Mcphilliamy | 303-312-6965
Region 9 (San Francisco) | Valerie Cooper | 415-947-4103
Region 10 (Seattle) | David Debruyn | 206-553-4218

Section XII. OTAQ Program Contact

Susan Bullard, Director of Outreach, EPA Office of Transportation and Air Quality (OTAQ), 1200 Pennsylvania Avenue, NW., (Mail Code 6406J), Washington, DC 20460, (Phone) 202/564-9856, (Fax) 202/565-2085, bullard.susan@epa.gov.

Margo Tsirigotis Oge,
Director, Office of Transportation and Air Quality.

[FR Doc. 03-9744 Filed 4-18-03; 8:45 am]

BILLING CODE 6560-50-P